DEPARTMENT OF THE INTERIOR

Office of the Secretary

[FF09D00000-123-FXGO1664091HCC05d]

Wildlife and Hunting Heritage Conservation Council

AGENCY: Office of the Secretary, Interior.

ACTION: Call for nominations.

SUMMARY: The Secretary of the Interior and the Secretary of Agriculture seek nominations for individuals to be considered as members of the Wildlife and Hunting Heritage Conservation Council (Council). The Council provides advice about wildlife and habitat conservation endeavors that (a) benefit wildlife resources; (b) encourage partnership among the public, sporting conservation organizations, the States, Native American tribes, and the Federal Government; and (c) benefit recreational hunting. Nominations should describe and document the proposed member's qualifications for membership to the Council, and include a resume listing their full name, address, telephone, and fax number.

DATES: Written nominations must be received by April 18, 2012.

ADDRESSES: Send nominations to Joshua Winchell, Coordinator, Wildlife and Hunting Heritage Conservation Council, Division of Program and Partnership Support, External Affairs, U.S. Fish and Wildlife Service, 4501 N. Fairfax Drive, Mailstop EA-3103, Arlington, VA 22203.

FOR FURTHER INFORMATION CONTACT: Joshua Winchell, at address above, or by telephone at (703) 358-2639.

SUPPLEMENTARY INFORMATION: The Council conducts its operations in accordance with the provisions of the Federal Advisory Committee Act (5 U.S.C. App. 2; FACA). It reports to the Secretary of the Interior and the Secretary of Agriculture through the Fish and Wildlife Service, in consultation with the Director of the Bureau of Land Management; the Director of the National Park Service; the Chief, U.S. Forest Service; the Chief, Natural Resources Conservation Service; and the Administrator of the Farm Service Agency. The Council functions solely as an advisory body. The Council's duties consist of, but are not limited to, providing recommendations for:

(a) Implementing the Recreational Hunting and Wildlife Resource Conservation Plan—A Ten-Year Plan for Implementation;

(b) Increasing public awareness of and support for the Wildlife Restoration Program;

(c) Fostering wildlife and habitat conservation and ethics in hunting and shooting sports recreation;

(d) Stimulating sportsmen and women's participation in conservation and management of wildlife and habitat resources through outreach and education;

(e) Fostering communication and coordination among State, tribal, and Federal governments; industry; hunting and shooting sportsmen and women; wildlife and habitat conservation and management organizations; and the public;

(f) Providing appropriate access to Federal lands for recreational shooting and hunting;

(g) Providing recommendations to improve implementation of Federal conservation programs that benefit wildlife, hunting, and outdoor recreation on private lands; and

(h) When requested by the Designated Federal Officer (DFO) in consultation with the Council Chairman, performing a variety of assessments or reviews of policies, programs, and efforts through the Council's designated subcommittees or workgroups.

The Council consists of no more than 18 discretionary members. The Secretary of the Interior and the Secretary of Agriculture appoint discretionary members for 3-year terms. No individual who is currently registered as a Federal lobbyist is eligible to serve as a member of the Council. The Secretaries will select discretionary members from among the national interest groups listed below. These members must be senior-level representatives of their organizations and/or have the ability to represent their designated constituency.

(1) State fish and wildlife resource management agencies;

(2) Wildlife and habitat conservation/management organizations;

(3) Game bird hunting organizations;

(4) Waterfowl hunting organizations;

(5) Big game hunting organizations;

(6) Sportsmen and women community at large;

(7) Archery, hunting, and/or shooting sports industry;

(8) Hunting and shooting sports outreach and education organizations;

(9) Tourism, outfitter, and/or guide industries related to hunting and/or shooting sports;

(10) Tribal resource management organizations.

The Council functions solely as an advisory body and in compliance with provisions of the FACA (5 U.S.C. Appendix 2).

Certification: I hereby certify that the Wildlife and Hunting Heritage Conservation Council (Council) is necessary and is in the public interest in connection with the performance of duties imposed on the Department of the Interior and the Department of Agriculture under 43 U.S.C. 1457 and provisions of the Fish and Wildlife Act of 1956 (16 U.S.C. 742a), the Federal Land Policy and Management Act of 1976 (43 U.S.C. 1701), the National Wildlife Refuge System Improvement Act of 1997 (16 U.S.C. 668dd), and Executive Order 13443, Facilitation of Hunting Heritage and Wildlife Conservation.

Dated: March 6, 2012.
Ken Salazar,
Secretary of the Interior.

[FR Doc. 2012-6516 Filed 3-16-12; 8:45 am]

BILLING CODE 4310-55-P